Title 3—

The President

Proclamation 10890 of January 31, 2025

National Black History Month, 2025

By the President of the United States of America

A Proclamation

Today, I am very honored to recognize February 2025 as National Black History Month.

Every year, National Black History Month is an occasion to celebrate the contributions of so many black American patriots who have indelibly shaped our Nation's history.

Throughout our history, black Americans have been among our country's most consequential leaders, shaping the cultural and political destiny of our Nation in profound ways. American heroes such as Frederick Douglass, Harriet Tubman, Thomas Sowell, Justice Clarence Thomas, and countless others represent what is best in America and her citizens. Their achievements, which have monumentally advanced the tradition of equality under the law in our great country, continue to serve as an inspiration for all Americans. We will also never forget the achievements of American greats like Tiger Woods, who have pushed the boundaries of excellence in their respective fields, paving the way for others to follow.

This National Black History Month, as America prepares to enter a historic Golden Age, I want to extend my tremendous gratitude to black Americans for all they have done to bring us to this moment, and for the many future contributions they will make as we advance into a future of limitless possibility under my Administration.

NOW, THEREFORE, I, DONALD J. TRUMP, President of the United States of America, by virtue of the authority vested in me by the Constitution and the laws of the United States, do hereby proclaim February 2025 as National Black History Month. I call upon public officials, educators, librarians, and all the people of the United States to observe this month with appropriate programs, ceremonies, and activities.

IN WITNESS WHEREOF, I have hereunto set my hand this thirty-first day of January, in the year of our Lord two thousand twenty-five, and of the Independence of the United States of America the two hundred and forty-ninth.

[FR Doc. 2025-02343

Filed 2-4-25; 11:15 am]

Billing code 3395-F4-P